DEPARTMENT OF JUSTICE

Antitrust Division

United States et al. v. Waste Management, Inc. et al.; Joint Motion To Modify Final Judgment

Notice is hereby given that a Joint Motion to Modify the Final Judgment was filed with the United States District Court for the Eastern District of New York in United States et al. v. Waste Management, Inc. et al., Civil No. 98 CV 7168 on October 23, 2001. The Complaint alleged that Waste Management's proposed acquisition Eastern Environmental Services, Inc. would violate Section 7 of the Clayton Act, 15 U.S.C. 18, by substantially lessening competition in waste collection and/or disposal in nine markets around the country. The Final Judgment in the case required, among other things, that Waste Management divest Eastern's Kelly Run landfill located in Elizabeth, Pennsylvania.

A Competitive Impact Statement filed by the United States describes the Complaint, the Final Judgment, the industry, and remedies to be implemented by Waste Management. The Joint Motion to Modify the Final Judgment seeks an Order from the Court that Waste Management shall have no obligation under the Final Judgment to divest the Kelly Run landfill. Copies of the Complaint, Hold Separate Stipulation and Order, Final Judgment, Competitive Impact Statement, and the Joint Motion to Modify the Final Judgment are available for inspection in Room 215 of the U.S. Department of Justice, Antitrust Division, 325 7th Street, NW, Washington, DC, and at the office of the Clerk of the United States District Court for the Eastern District of New York, Brooklyn, New York. Copies of any of these materials may be obtained upon request and payment of a copying fee.

Public comment is invited within the statutory 60-day comment period. Such comments and response thereto will be published in the Federal Register and filed with the Court. Comments should be directed to J. Robert Kramer II, Chief, Litigation II Section, Antitrust Division, United States Department of Justice, 1401 H Street, NW, Suite 3000, Washington, DC 20530 (telephone: 202-307-0924).

Constance K. Robinson,
Director of Operations, and Merger Enforcement.

[FR Doc. 01-30159 Filed 12-4-01; 8:45 am]

BILLING CODE 4410-11-M